DEPARTMENT OF COMMERCE

National Oceanic and Atmospheric Administration

[I.D. 070704C]

Proposed Information Collection; Comment Request; Human Dimensions of Marine Resource Management

AGENCY: National Oceanic and Atmospheric Administration (NOAA).

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before September 10, 2004.

ADDRESSES: Direct all written comments to Diana Hynek, Departmental Paperwork Clearance Officer, Department of Commerce, Room 6625, 14th and Constitution Avenue, NW, Washington, DC 20230 (or via the Internet at dHynek@doc.gov).

FOR FURTHER INFORMATION CONTACT: Requests for additional information or copies of the information collection instrument and instructions should be directed to Susan Abbott-Jamieson, NMFS ST5, 1315 East West Hwy SSMC3, Room 12609, Silver Spring, MD 20910.

SUPPLEMENTARY INFORMATION:

I. Abstract

In order to address the National Environmental Policy Act (NEPA) and Magnuson-Stevens Fishery Conservation and Management Act (MSA) requirements, NOAA Fisheries social scientists must collect a broad range of social, cultural and economic information currently unavailable. NOAA Fisheries social scientists conduct social science research and apply research findings to fishery management needs. This research is designed to improve social science data related to the human dimensions of fisheries management by: (1) investigating social, cultural and economic issues/processes related to marine fishery stakeholders including but not limited to commercial and recreational fishermen, subsistence fishermen, fishing vessel owners, fishermen's families, fish processors and processing workers, related fishery support businesses, and fishing communities as defined in MSA section 3(16); (2) improving the current knowledge of baseline information related to marine fishery stakeholders, as described in (1) above; and (3) monitoring and measuring trends among marine fishery stakeholders, as described in (1) above, affected by fishery management decisions.

II. Method of Collection

Qualitative and quantitative research methods will be used to collect social, cultural and economic data. Examples of qualitative methods that will be employed are ethnographic research including participant observation, focus groups, and informal unstructured and formal structured interviews. Examples of quantitative methods that will be used include in-person, mail and phone surveys and questionnaires.

III. Data

OMB Number: 0648-0488.

Form Number: None.

Type of Review: Regular submission.

Affected Public: Individuals and households; business or other for-profit organizations; Not-for-profit institutions; Federal Government; and State, Local or Tribal Government.

Estimated Number of Respondents: 6,000.

Estimated Time Per Response: 60 minutes (Burden hours are directly related to the type of data collection tool used. Small surveys and participant observation may require minimal burden to participants and respondents. For example a small survey could take five minutes to administer. Other methods such as detailed surveys and informal and formal interview discussions can take much longer).

Estimated Total Annual Burden Hours: 6,000.

Estimated Total Annual Cost to Public: $0.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: July 2, 2004.
Gwellnar Banks,
Management Analyst, Office of the Chief Information Officer.

[FR Doc. 04-15742 Filed 7-9-04; 8:45 am]

BILLING CODE 3510-22-S